OFFICE OF THE UNITED STATES TRADE REPRESENTATIVE

[Docket No. WTO/DS335]

WTO Dispute Settlement Proceeding Regarding United States—Antidumping Measure on Shrimp From Ecuador

AGENCY: Office of the United States Trade Representative.

ACTION: Notice; request for comments.

SUMMARY: The Office of the United States Trade Representative (“USTR”) is providing notice that Ecuador has requested the establishment of a dispute settlement panel under the Marrakesh Agreement Establishing the World Trade Organization (“WTO Agreement”). That request may be found at http://www.wto.org contained in a document designated as WT/DS335/6. USTR invites written comments from the public concerning the issues raised in this dispute.

DATES: Although USTR will accept any comments received during the course of the dispute settlement proceedings, comments should be submitted on or before September 22, 2006, to be assured of timely consideration by USTR.

ADDRESSES: Comments should be submitted (i) Electronically, to FR0603@ustr.eop.gov, Attn: “Ecuador Shrimp AD Dispute (DS335)” in the subject line, or (ii) by fax, to Sandy McKinzy at (202) 395-3640. For documents sent by fax, USTR requests that the submitter provide a confirmation copy to the electronic mail address listed above.

FOR FURTHER INFORMATION CONTACT: Bruce Hirsh, Deputy Assistant United States Trade Representative for Monitoring and Enforcement, Office of the United States Trade Representative, 600 17th Street, NW., Washington, DC 20508, (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, USTR is providing notice that a dispute settlement panel has been established pursuant to the WTO Dispute Settlement Understanding (“DSU”). The panel will hold its meetings in Geneva, Switzerland.

Major Issues Raised by Ecuador

On December 23, 2004, the U.S. Department of Commerce published in the Federal Register notice of its affirmative final less-than-fair-value (“LTFV”) determination in the antidumping investigation concerning certain frozen and canned warmwater shrimp from Ecuador (69 FR 76913). On February 1, 2005, the Department of Commerce published notice of an amended final LTFV determination, along with an antidumping duty order (70 FR 5156). The latter notice contains the final margins of LTFV sales.

In its request for the establishment of a panel, Ecuador alleges that the Department of Commerce improperly calculated margins of dumping by “zeroing” so-called “negative anti-dumping margins.” Based on the use of zeroing, Ecuador alleges that the final LTFV determination and the antidumping duty order are inconsistent with the first sentence of Article 2.4.2 of the Agreement on Implementation of Article VI of the General Agreement on Tariffs and Trade 1994. In this regard, on March 6, 2006, the Department of Commerce announced that it will no longer use “zeroing” when making average-to-average comparisons in an antidumping investigation. See 71 FR 11189.

Public Comment: Requirements for Submissions

Interested persons are invited to submit written comments concerning the issues raised in this dispute. Persons may submit their comments either (i) Electronically, to FR0603@ustr.eop.gov, Attn: “Ecuador Shrimp AD Dispute (DS335)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-335, Ecuador Shrimp AD Dispute) may be made by calling the USTR Reading Room at (202) 395-6186. The USTR Reading Room is open to the public from 9:30 a.m. to noon and 1 p.m. to 4 p.m., Monday through Friday.

Daniel E. Brinza,
Assistant United States Trade Representative, for Monitoring and Enforcement.

[FR Doc. E6-14346 Filed 8-29-06; 8:45 am]

BILLING CODE 3190-W6-P